INTERNATIONAL TRADE COMMISSION

[Inv. No. 337-TA-561]

In the Matter of Certain Combination Motor and Transmission Systems and Devices Used Therein, and Products Containing Same; Notice of a Commission Determination Not to Review an Initial Determination Granting a Motion to Amend the Complaint and Notice of Investigation

AGENCY: U.S. International Trade Commission.

ACTION: Notice.

SUMMARY: Notice is hereby given that the U.S. International Trade Commission has determined not to review the presiding administrative law judge's (“ALJ”) initial determination (“ID”) granting complainant's motion to amend the complaint and notice of investigation in the above-captioned investigation to substitute respondent Toyota Motor Manufacturing North America, Inc. with Toyota Motor Engineering & Manufacturing North America, Inc. and Toyota Motor Manufacturing Kentucky, Inc.

FOR FURTHER INFORMATION CONTACT: Timothy P. Monaghan, Esq., Office of the General Counsel, U.S. International Trade Commission, 500 E Street, SW., Washington, DC 20436, telephone 202-205-3152. Copies of the nonconfidential version of the ID and all nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: On February 13, 2006, the Commission instituted an investigation under section 337 of the Tariff Act of 1930, 19 U.S.C. 1337, based on a complaint filed by Solomon Technologies, Inc., of Tarpon Springs, Florida (“Solomon”), alleging a violation of section 337 in the importation, sale for importation, and sale within the United States after importation of certain combination motor and transmission systems and devices used therein, and products containing same by reason of infringement of claims 1-5, 7, 8, 10, and 12 of U.S. Patent No. 5,067,932. 71 FR 7574. The notice of investigation named Toyota Motor Corporation, of Japan; Toyota Motor Manufacturing North America, Inc., of Erlanger, Kentucky; and Toyota Motor Sales, U.S.A., Inc., of Torrance, California as respondents.

On May 23, 2006, complainant Solomon moved for leave to amend the complaint and notice of investigation pursuant to Commission rule 210.14(b) to substitute respondent Toyota Motor Manufacturing North America, Inc. with Toyota Motor Engineering & Manufacturing North America, Inc. and Toyota Motor Manufacturing Kentucky, Inc. Respondents and the Commission investigative attorney did not oppose the motion.

On May 26, 2006, the ALJ issued an ID (Order No. 7) granting complainant's unopposed motion to amend the complaint and notice of investigation. No petitions for review of Order No. 7 were filed.

The authority for the Commission's action is contained in section 337 of the Tariff Act of 1930, as amended (19 U.S.C. 1337) and in section 210.42 of the Commission's Rules of Practice and Procedure (19 CFR 210.42).

Issued: June 26, 2006.
By order of the Commission.
Marilyn R. Abbott,
Secretary to the Commission.

[FR Doc. 06-5812 Filed 6-28-06; 8:45 am]

BILLING CODE 7020-02-P